DEPARTMENT OF THE INTERIOR

National Park Service

[NPS-WASO-OIA-22277; PIN00IO14.XI0000]

15-Day Notice of Opportunity for Public Comment on Planned Additions to the U.S. World Heritage Tentative List and Proposed Future U.S. Nominations to the World Heritage List

AGENCY: National Park Service, Department of the Interior.

ACTION: Notice and request for comments.

SUMMARY: This is a First Notice for the public to comment on the next potential U.S. nominations from the existing U.S. World Heritage Tentative List (“Tentative List”) to the United Nations Educational, Scientific and Cultural Organization (UNESCO) World Heritage List, and announces additions to the Tentative List. The public may also make suggestions for additions to the Tentative List. This notice complies with Sec. 73.7(c) of the World Heritage Program regulations (36 CFR part 73).

DATES: Comments will be accepted on or before December 27, 2016. There have been several opportunities for public comment on this subject in past notices, and the National Park Service has also received suggestions from the public and through other channels since 2008 and throughout the process of revising the Tentative List in 2015 and 2016.

ADDRESSES: Please provide all comments directly to Jonathan Putnam, Office of International Affairs, National Park Service, 1201 Eye Street NW. (0050), Washington, DC 20005 or by Email to: jonathan_putnam@nps.gov . Phone: 202-354-1809. Fax 202-371-1446.

Comments: Comments on whether to nominate any of the properties on the Tentative List must address:

(i) How well the property(ies) would meet the World Heritage nomination criteria, requirements for authenticity, integrity, legal protection and management. Information on these criteria and requirements can be found on the Web site noted below; and

(ii) The readiness and ability of the property owner(s) to prepare a satisfactory nomination document.

Suggestions for additions to the Tentative List not previously submitted must address:

(i) How the property(ies) would meet the World Heritage nomination criteria, requirements for authenticity, integrity, legal protection and management. Information on these criteria and requirements can be found on the Web site noted below; and

(ii) The U.S. legal prerequisites that include the agreement of all property owners to the nomination of their property, an official determination that the property is nationally significant (such as by designation as a National Historic or National Natural Landmark), and effective legal protection.

All previous suggestions for the Tentative List made during previous comment periods or otherwise submitted since 2008, have been retained and considered and should not be resubmitted at this time.

All public comments will be summarized and provided to Department of the Interior officials, who will obtain the advice of the Federal Interagency Panel for World Heritage before making any selection of properties for World Heritage nomination. The selection may include the following considerations:

(i) How well the particular type of property (i.e., theme or region) is represented on the World Heritage List in both the United States and other nations;

(ii) The balance between cultural and natural properties already on the List and those under consideration;

(iii) Opportunities that the property affords for public visitation, interpretation, and education;

(iv) Potential threats to the property's integrity or its current state of preservation;

(v) Likelihood of being able to complete a satisfactory nomination; and

(vi) Other relevant factors, including the possible implications of the fact that the United States is currently prohibited by law from providing any funding to UNESCO, including UNESCO and World Heritage member dues.

FOR FURTHER INFORMATION CONTACT: Jonathan Putnam, 202-354-1809. General information about U.S. participation in the World Heritage Program and the process used to develop the Tentative List is posted on the Office of International Affairs Web site at: https://www.nps.gov/subjects/internationalcooperation/worldheritage.htm.

To request a paper copy of the U.S. Tentative List, please contact April Brooks, Office of International Affairs, National Park Service, 1201 Eye Street NW., (0050) Washington, DC 20005. Email: april_brooks@nps.gov.

For the World Heritage nomination format, see the World Heritage Centre Web site at: http://whc.unesco.org/en/nominations.

SUPPLEMENTARY INFORMATION:

Background: The World Heritage List is an international list of cultural and natural properties nominated by the signatories to the World Heritage Convention (1972), an international treaty for the preservation of natural and cultural heritage sites of global significance. The United States has served several terms on the elected 21-nation World Heritage Committee, but is not currently on the Committee. There are 1,052 sites in 165 of the 192 signatory countries. Currently there are 23 World Heritage Sites in the United States.

U.S. participation and the roles of the Department of the Interior and the National Park Service are authorized by Title IV of the Historic Preservation Act Amendments of 1980 and conducted in accordance with 36 CFR part 73—World Heritage Convention.

The National Park Service serves as the principal technical agency for the U.S. Government to the Convention and manages all or parts of 18 of the 23 U.S. World Heritage Sites currently listed.

A Tentative List is a national list of natural and cultural properties appearing to meet the World Heritage Committee eligibility criteria for nomination to the World Heritage List. It is a list of candidate sites which a country intends to consider for nomination within a given time period, but does not guarantee future nomination. The World Heritage Committee's Operational Guidelines ask participating nations to provide Tentative Lists, which aid in evaluating properties for the World Heritage List on a comparative international basis and help the Committee to schedule its work over the long term. A country cannot nominate a property unless it has been on its Tentative List for a minimum of a year. Countries also are limited at this time to nominating no more than one site in any given year.

Neither inclusion in the Tentative List nor inscription as a World Heritage Site imposes legal restrictions on owners or neighbors of sites, nor does it give the United Nations any management authority or ownership rights in U.S. World Heritage Sites, which continue to be subject to U.S. laws.

Current U.S. World Heritage Tentative List: The current U.S. World Heritage Tentative List was transmitted to the UNESCO World Heritage Centre on January 24, 2008. Since 2008, five properties on the Tentative List have been nominated to the World Heritage List: Three have been successfully inscribed on the World Heritage List, and are therefore no longer included on the Tentative List.

On June 26, 2012, the U.S. Department of the Interior announced in the Federal Register (77 FR 38079) that it intended to update the Tentative List in 2016. To accomplish this, it made use of an expert Working Group established as a sub-committee of the U.S. National Commission for UNESCO, a Federal Advisory Committee for the U.S. Department of State. The organizations comprising the Working Group (see below) were selected to provide expertise in the full range of subject areas that can be considered for World Heritage; they also included the member agencies of the Federal Interagency Panel on World Heritage, which advises the Assistant Secretary of the Interior for Fish and Wildlife and Parks. The Working Group completed its work in October 2016 and the full U.S. National Commission for UNESCO endorsed its recommendations on October 11, 2016 in an open teleconference. On October 17, 2016, the Department of State transmitted the recommendations to the Department of the Interior.

Agencies and Organizations on the U.S. World Heritage Tentative List Working Group

Smithsonian Institution

U.S. National Committee, International Council on Monuments and Sites

U.S. Fish and Wildlife Service

U.S. Bureau of Land Management

The International Committee for the Conservation of Industrial Heritage (TICCIH)

U.S. National Park Service

Advisory Council on Historic Preservation

Society of Architectural Historians

American Historical Association

National Oceanic and Atmospheric Administration

Geological Society of America

National Geographic Society

U.S. Department of State

The current Tentative List includes the following properties:

Cultural Sites

Civil Rights Movement Sites, Alabama

Dexter Avenue King Memorial Baptist Church, Montgomery

Bethel Baptist Church, Birmingham

16th Street Baptist Church, Birmingham

Dayton Aviation Sites, Ohio

Dayton Aviation Heritage National Historical Park

Hopewell Ceremonial Earthworks, Ohio

Fort Ancient State Memorial, Warren County

Hopewell Culture National Historical Park, near Chillicothe

Newark Earthworks State Historic Site, Newark and Heath

Jefferson (Thomas) Buildings, Virginia (Proposed Jointly as an Extension to the World Heritage Listing of Monticello and the University of Virginia Historic District)

Poplar Forest, Bedford County

Virginia State Capitol, Richmond

Mount Vernon, Virginia

Serpent Mound, Ohio

Wright (Frank Lloyd) Buildings [Nominated in 2015; Additional Information has Been Requested by the World Heritage Committee]

Taliesin West, Scottsdale, Arizona

Hollyhock House, Los Angeles, California

Marin County Civic Center, San Rafael, California

Frederick C. Robie House, Chicago, Illinois

Unity Temple, Oak Park, Illinois

Solomon R. Guggenheim Museum, New York, New York

Price Tower, Bartlesville, Oklahoma

Fallingwater, Mill Run, Pennsylvania

Taliesin, Spring Green, Wisconsin

Herbert and Katherine Jacobs House, Madison, Wisconsin

Natural Sites

National Marine Sanctuary of American Samoa (Formerly Fagatele Bay National

Marine Sanctuary, American Samoa)

Okefenokee National Wildlife Refuge, Georgia

Petrified Forest National Park, Arizona

White Sands National Monument, New Mexico

Proposed Additions to U.S. World Heritage Tentative List

Cultural Sites

Ellis Island, New Jersey and New York

Chicago Early Skyscrapers, Illinois, Including: [Other Properties May Be Added in the Course of Developing a Nomination]

—Rookery

—Auditorium Building

—Monadnock Building

—Ludington Building

—Marquette Building

—Old Colony Building

—Schlesinger & Mayer (Carson, Pirie Scott) Department Store

—Second Leiter Building

—Fisher Building

Central Park, New York

Brooklyn Bridge, New York

Moravian Bethlehem District, Pennsylvania

Natural Sites

Marianas Trench National Monument, U.S. Territory, Commonwealth of the Northern Mariana Islands, Guam

Central California Current, California, Including

—Cordell Bank National Marine Sanctuary

—Monterey Bay National Marine Sanctuary

—Greater Farallones National Marine Sanctuary

—Farallon Islands National Wildlife Refuge

—Point Reyes National Seashore

—Golden Gate National Recreation Area

Big Bend National Park, Texas

Pacific Remote Islands National Monument, U.S. Territorial Waters

In developing recommendations for additions to the Tentative List, the Working Group considered all the suggestions that had been submitted to the Department of the Interior since the current Tentative List was developed in 2008, during both formal comment periods and through other channels. There were well over 100 of these suggestions, including both specific properties and thematic ideas. The Working Group also considered additional suggestions contained in the January 2016 “U.S. World Heritage Gap Study Report” by the U.S. national committee of the International Council on Monuments and Sites (ICOMOS) and a report by an expert from the World Commission on Protected Areas on places in the U.S. identified as priorities for global conservation and which may have potential for World Heritage listing. The ICOMOS international secretariat provided, under contract with the National Park Service, preliminary evaluations of a short list of cultural candidate sites, which also informed the Working Group's recommendations.

The United States Department of the Interior is now considering whether to initiate the preparation of draft nominations for any of the remaining properties on the current Tentative List to the World Heritage List. Brief descriptions of the properties appear on the National Park Service, Office of International Affairs Web site: https://www.nps.gov/subjects/internationalcooperation/worldheritage.htm.

All comments will be a matter of public record. Before including an address, phone number, email address, or other personal identifying information in a comment, members of the public should be aware that the entire comment—including personal identifying information—may be made public at any time. While commenters can request that personal identifying information be withheld from public review, it may not be possible to comply with this request.

Authority: 54 U.S.C. 307101; 36 CFR part 73.

Dated: November 30, 2016.
Michael J. Bean,
Principal Deputy Assistant Secretary for Fish and Wildlife and Parks.

[FR Doc. 2016-29528 Filed 12-8-16; 8:45 am]

BILLING CODE 4312-52-P